DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of December 2003.

In order for an affirmative determination to be made and a certification of eligibility to apply for directly-impacted (primary) worker adjustment assistance to be issued, each of the group eligibility requirements of Section 222(a) of the Act must be met.

I. Section (a) (2) (A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a) (2) (B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(Increased imports) and (a) (2) (B) (II.B) (No shift in production to a foreign country) have not been met.

TA-W-53,415; Elementis Chromium LP, formerly known as American Chrome & Chemicals LP, including leased workers of Bay, Harmony, and The Wilson Group, Corpus Christi, TX

TA-W-53,434; Sara Lee Coffee & Tea, Oklahoma City, OK

TA-W-53,718; Brown-Minneapolis Tank-Rocky Mountain, LLC, Orem, UT

TA-W-53,570; Thermo Forma, Marietta, OH

TA-W-53,388; Cavert Wire Co., Inc., Oliver Plant, Oliver, PA

TA-W-53,449; Chevron Phillips Chemical Co., Port Arthur, TX

TA-W-53,584; Advantek, Inc., Minnetonka, MN

TA-W-53,489; Bell Sponging Co., Inc., a div. of The Tom James Co., Allentown, PA

TA-W-53,487; National Textiles, Eden, NC

TA-W-53,429; R. Leon Williams Lumber Co., Clifton, ME

TA-W-53,169; Dresser, Inc., Dresser Piping Specialties Div., Bradford, PA

TA-W-53,687; Olympic Wood Products, Inc., Shelton, WA

TA-W-53,624; General Electric Co., Consumer Products Div., Logan, OH

TA-W-53,411; Cognati Industries, Inc., Bluffton, IN

TA-W-53,326; Weyerhaeuser Co., including leased workers of Manpower, Inc., West Memphis, AR

TA-W-53,478; Edgcomb Metals LLC, a subsidiary of Macsteel Service Centers USA, Indianapolis, IN

TA-W-53,430; EMF Corp., EMK Div., Burkesville, KY

TA-W-53,416; Wolverine Pattern and Machine, Inc., Saginaw, MI

TA-W-53,334; Eugene Aluminum and Brass Foundry, Inc., Eugene, OR

TA-W-53,531; Gen Corp., Inc., GDX Automotive Div., Salisbury, NC

TA-W-53,359; Keystone Powdered Metal Co., St. Marys, PA

TA-W-53,173A; Invista, Inc., formerly Dupont Textiles and Interiors, Commercial Flooring Div., a subsidiary of E.I. DuPont De Nemours & Co., Inc., Athens, GA

TA-W-53,234B; Kendro Laboratory Products, Centrifuge Production, a subsidiary of SPX Corp., Newtown, CT

TA-W-53,196A; Texas Instruments, Inc., Make-Leadframe Div., Attleboro, MA

TA-W-53,115A; Dana Corp., Perfect Circle Jefferson Street Div., Muskegon, MI

TA-W-52,962; Pa-Ted Spring Company of North Carolina, Belmont, NC & PA-Ted Spring Company of El Paso, El Paso, TX

The workers firm does not produce an article as required for certification under Section 222 of the Trade Act of 1974.

TA-W-53,652; IPWorks, Inc., DNS and DHCP Development Unit, a subsidiary of Ericsson Unit Datacom, a subsidiary of Ericsson, Inc., Framingham, MA

TA-W-53,536; Istonish, Inc., Austin, TX

TA-W-53,605; TA-W-53,605; Taylor Nelson Sofres Intersearch Corp. (TNS), Youngstown, OH

TA-W-53,639; Honeywell Sending and Control, Engineering Group, a subsidiary of Honeywell, Shelby, NC

TA-W-53,401; Pitney Bowes, Inc., Holyoke Facility, Holyoke, MA

TA-W-53,607; Med-Data, Inc., Corvallis, MT

TA-W-53,454; Acusis, LLC, Pittsburgh, PA

TA-W-53,787; ALHU International, Inc., El Paso, TX

TA-W-53,717; Nortel Networks, Billerica, MA

TA-W-53,747; Kmart Corp., Clinton, NC

TA-W-53,810; Orica USA, Inc., Distribution Center, Frankfort, KY

TA-W-53,576; Kraft Foods, Northlake Distribution Center, Northlake, IL

TA-W-53,445; Telewise Communications, Inc., San Jose, CA

TA-W-53,648; International Business Machines Corp., Tulsa, OK

TA-W-53,470; Motorola, Inc., Rockford Service Center, Rockford, IL

TA-W-53,727; CSP Technologies, Inc., High Point, NC

TA-W-53,711; United States Postal Service, Remote Encoding Center, Cohoes, NY

TA-W-53,815; Rowan Regional Medical Center, Salisbury, NC

TA-W-53,673; S&S Distribution Center, a subsidiary of Land N Sea Co., Inc., Roebuck, SC

TA-W-53,812; Advance Transformer Co., Wartburg, TN

TA-W-53,633; IBM Corp., Technology Group, Marketing Support Team, Essex Junction, VT

TA-W-53,448; Texas Instruments, Tucson Make Facility, Hybrids Manufacturing Div., Tucson, AZ

TA-W-53,696; Stinson, Inc., Pittsburgh, PA

TA-W-53,537; Pacific Rim Log Scaling Bureau, Lacy, WA

TA-W-53,713; Exeter Machine Co., Inc., Lomira, WI

TA-W-53,613; Houston/NANA, a subsidiary of Houston Contracting Co., a wholly owned subsidiary of ASRC Energy Services, Inc., a wholly owned subsidiary of Arctic Slope Regional Corp., Fairbanks, AK

TA-W-53,709; Alfmeier Corp., Seating Comfort Systems, a subsidiary of Alfmeier Prazision, Dandridge, TN

TA-W-53,498 & A, B; Anadarko Petroleum Corp. Headquarters, The Woodlands, TX, Midland Div. Office, Midland, TX and Amarillo Div. Office, Amarillo, TX

The investigation revealed that criterion (a)(2)(A)(I.A) (no employment decline) has not been met.

TA-W-53,386; OSRAM Sylvania, Inc., General Lighting Div., St. Marys, PA

TA-W-53,582; Avondale Mills, Inc., Burnsville, SC

TA-W-53,730; McData Corp., Manufacturing Div., Louisville, CO

TA-W-53,532; Penro Mold and Tool, Inc., Pittsfield, MA

TA-W-53,425; Trane Co., Global Controls and Contracting Div., a subsidiary of American Standard Co., White Bear Lake, MN

TA-W-52,577A; Allen-Edmonds Shoe Corp., Port Washington, WI

The investigation revealed that criteria (a)(2)(A)(I.B) (Sales or production, or both, did not decline) and (a)(2)(A)(II.A) (no employment decline) has not been met.

TA-W-53,546; Randolph Products, Carlstadt, NJ

The investigation revealed that criteria (a)(2)(A) (I.B) (Sales or production, or both, did not decline) and (a) (2)(B)(II.B) (has shifted production to a county not under the free trade agreement with U.S.) have not been met.

TA-W-53,524; Overly Door Co., Greensburg, PA

TA-W-53,184; Wolverine Tube, Inc., Booneville Operations Div., Booneville, MS

TA-W-53,447; Smucker Fruit Processing Co., subsidiary of J.M. Smucker Co., Woodburn, OR

TA-W-53,540; Teikoku USA, Inc., Div., of Chempump and lease workers of Accountemps, Neshaminy and Labor Ready, Warrington, PA

TA-W-53,443; Deco Engineering, Inc., Newcor, Inc., Royal Oak, MI

The investigation revealed that criteria (2) has not been met. The workers firm (or subdivision) is not a supplier or downstream producer to trade-affected companies.

TA-W-53,621; Rainbow Ranch, Chehalis, WA

TA-W-53,327; Portland Pattern, Inc., Wood Department, Portland, OR

Affirmative Determinations for Worker Adjustment Assistance

The following certifications have been issued; the date following the company name and location of each determination references the impact date for all workers of such determination.

The following certifications have been issued. The requirements of (a)(2)(A) (increased imports) of Section 222 have been met.

TA-W-53,591; Steward, Inc., including leased workers of Express Personnel Services, Chattanooga, TN: October 29, 2002.

TA-W-53,477; XDU Classics, Inc., Piedmont, AL: October 29, 2002.

TA-W-53,668 & A; Alice Manufacturing Co., Inc., Ellison Plant, Easley, SC and Elljean Plant, Easley, SC: November 25, 2002.

TA-W-53,611; Intercontinental Polymers, Inc., Lowland, TN: November 13, 2002.

TA-W-53,750; Allflex USA, Inc., Dallas/Ft. Worth Airport, TX: November 14, 2002.

TA-W-53,464; U.C.A. Holdings, Turbine Engine Components Technologies Corp., Utica Div., Whitesboro, NY: October 27, 2002.

TA-W-53,571; Maynard Steel Casting Co., Milwaukee, WI: November 3, 2002.

TA-W-53,472; Sherman-Feinberg Corp., South Boston, MA: November 5, 2002.

TA-W-53,383; SMTC Manufacturing Corp., Franklin, MA: October 28, 2002.

TA-W-53,395; Du-Co Ceramics Co., Saxonburg, PA: October 29, 2002.

TA-W-53,410; Nidec America Corp., ADF Div., Canton, MA: October 28, 2002.

TA-W-53,260; Detail Tool and Engineering, Inc., Ramsey, MN: October 9, 2002.

TA-W-53,466; Berkar Knitting Corp., Brooklyn, NY: October 22, 2002.

TA-W-53,526; Royal Home Fashions, Inc., Mebane Div., Mebane, NC: October 31, 2002.

TA-W-53,517; Howell Penncraft, Howell, MI: October 28, 2002. IL October 14, 2002.

TA-W-53,541; Gentry Mills, Inc., a subsidiary of Gentry Knitting, Ltd, Wadesboro, NC: November 10, 2002.

TA-W-53,554; Waltrich Plastic Corp. of Massachusetts, Clinton, MA: November 3, 2002.

TA-W-53,377; Brintons U.S. Axminster, Inc., including leased workers of Greenville Temps, Manpower, Inc. and PSC Staffing, Greenville, MS: October 24, 2002.

TA-W-53,442; Planto Furniture Manufacturing Co., Inc., San Antonio, TX: November 4, 2002.

TA-W-53,324 & A; New River Industries, Inc., Radford, VA and New York, NY: October 15, 2002.

TA-W-53,268; J.S. Popper, Inc., Little Ferry, NJ: October 16, 2002.

TA-W-53,278 & A; Sherwood Harsco Corp., Fluid Control Group, Lockport, New York and Niagara Falls, NY: October 3, 2002.

TA-W-53,439; AM Communications, Inc., Quakertown, PA: September 14, 2003.

TA-W-53,440; Nestronix, Quakertown, PA: September 14, 2003.

TA-W-53,492; Falcon Shoe Manufacturing Co., Lewiston, ME: June 9, 2003.

TA-W-53,574; Springs Industries, Inc., Leroy Plant, including leased workers of Phillips Staffing, Fort Lawn, SC: November 13, 2002.

TA-W-53,302; Kiker Hosiery, Locust, NC: October 15, 2002.

TA-W-53,494; Avery Dennison, Chicopee Plant Paper Business subdivision including leased workers of Adecco, Chicopee, MA: November 7, 2002.

TA-W-53,433; International Resistive Co., Inc. a subsidiary of TT Electronics, PLC, Boone, NC: October 28, 2002.

TA-W-53,527; Van Dorn Demag Corp., a div. of Demag Products Group, Strongsville, OH: November 12, 2002.

TA-W-53,535; International Paper, Auburn, ME: October 29, 2002.

TA-W-53,533; International Paper, Bucksport, ME: November 5, 2002.

TA-W-53,297; DSM Pharma Chemicals, a div. of DSM Pharmaceuticals, Inc., including leased workers of Manpower Temporary Agency, Greenville, NC: October 17, 2002.

TA-W-53,387; Perfect Products Co., Malvern, OH: October 14, 2002.

TA-W-52,962A; Pa-Ted Spring Co of North Carolina, Bristol, CT: September 3, 2002.

TA-W-53,272; Thombas Co., LLC, d/b/a Capitol Manufacturing, including leased workers of Express Personnel, Fayetteville, NC: May 15, 2003.

TA-W-53,698; Holloway Sportswear, Inc., Simmesport, LA: November 25, 2002.

TA-W-53,436; Sanmina—SCI, including leased workers of Manpower and Bonney Staffing, Westbrook, ME: October 27, 2002.

TA-W-53,435; Manar, Inc., Henry Div., Henry, TN: October 24, 2002.

TA-W-53,414; Dupont Photomasks, Inc., Pellicles Div., Danbury, CT: October 31, 2002.

TA-W-53,390; Jore Corp., including leased workers of LC Staffing and Express Personnel, Ronan, MTL: October 25, 2002.

TA-W-53,505; Hunt Corp., Speedball Road Plant, Statesville, NC: November 7, 2002.

TA-W-53,602; GST Autoleather, Inc., Reading, PA: November 20, 2002.

TA-W-53,547; Hartz-Broadway, Inc., a div. of Hartz and Co., Inc., Broadway, VA: November 11, 2002.

TA-W-53,550; Wohlert Corp., Lansing, MI: November 7, 2002.

TA-W-53,622; JVC Magnetics America Co., Tuscaloosa, AL: November 20, 2002.

TA-W-53,623; Fashion Sportswear Corp., Fall River, MA: November 19, 2002.

TA-W-53,643; Stod-Win Co., Inc., Danville, VA: November 17, 2002.

TA-W-53,598; Hercules, Inc., Hattiesburg, MS: November 11, 2002.

TA-W-53,452; Cadillac Curtain Corp., Covington, TN: October 27, 2002.

TA-W-53,450; CHC Industries, Inc., Jacksonville, FL, A; Palm Harbor, FL, B; Cameron, MO, C; Cleveland, OH, D; Valley City, OH, E; Baltimore, MD, F; Brenham, TX, G; Gadsden, AL: November 3, 2002.

TA-W-53,479; Fabricating Engineering, Inc., Davisburg, MI: November 5, 2002.

TA-W-53,534; International Paper, Augusta, ME: October 29, 2002.

TA-W-53,543; Charmilles Technologies Manufacturing Corp., Owosso, MI: November 5, 2002.

TA-W-53,596; Jeld-Wen, Inc., Susanville, CA: November 10, 2002.

TA-W-53,610; Besly Products Corp., South Beloit, IL: November 17, 2002.

TA-W-53,539; E.L. Mansure Co., a div. of CHF Industries, Inc., Clinton, SC: November 11, 2002.

TA-W-53,561; Lucerne Technologies, LLC, Bolivar, TN: October 31, 2002.

TA-W-53,568; EJE Research, a div. of Airsep Corp., Buffalo, NY: November 3, 2002.

TA-W-53,544; Levi Strauss & Co., San Antonio Finishing & Sewing Center Div., San Antonio, TX: November 14, 2002.

TA-W-53,772; Werner Co., Kentucky Div., including temporary workers of CBS Temporary Services, Carrollton, KY: December 9, 2002.

The following certifications have been issued. The requirements of (a)(2)(B) (shift in production) of Section 222 have been met.

TA-W-53,677; The Smead Manufacturing Co., Logan, OH: November 18, 2002.

TA-W-53,678; Foam Tech, Inc., Lexington, NC: November 19, 2002.

TA-W-53,817; Tyco Electronics-Gadan, a subsidiary of Tyco International, Franklin, KY: November 17, 2002.

TA-W-53,754; Douglas Quikut, Quikut Div., Walnut Ridge, AR: November 5, 2002.

TA-W-53,671 & A; Lasting Impressions, Inc., New York, NY and Brooklyn, NY: November 18, 2002.

TA-W-53,670 & A; Versailles, Ltd, New York, NY and Brooklyn, NY: November 18, 2002.

TA-W-53,298; Fisher Controls, LLC, Emerson Process Management Div., McKinney, TX: October 21, 2002.

TA-W-53,300; Kraft Foods, Nabisco Biscuit Div., Fair Lawn, NJ: October 2, 2002.

TA-W-53,599; American Allsafe Co., a div. of Jackson Products, Inc., Tonawanda, NY: November 7, 2002.

TA-W-53,608; Avery Dennison Corp., including leased workers of Adecco, Meridian, MS: November 6, 2002.

TA-W-53,553; Level 1, Inc., a div. of Smith's Group PLC, including leased workers of Onsite Commercial Staffing, Rockland, MA: November 14, 2002.

TA-W-53,378; Fila USA, Inc., Peabody Div., Peabody, MA: October 28, 2002.

TA-W-53,467; Gasboy International, LLC, a subsidiary of Gilbarco, Inc., Lansdale, PA: November 7, 2002.

TA-W-53,814; Orcon Corp., Kennesaw, GA: December 2, 2002.

TA-W-53,634; Virginia KMP Corp., Dallas, TX: November 18, 2002.

TA-W-53,587; Sensient Imaging Technologies, Inc. (formerly Formulabs), Industrial Ink Div., Piqua, OH: October 28, 2002.

TA-W-53,700; Spirit Silkscreens, Inc., Irvine, CA: November 13, 2002.

TA-W-53,654; Fresenius Kabi Clayton L.P., Clayton, NC: November 25, 2002.

TA-W-53,575; Textron Fastening Systems, Samuelson Road Operations Div., a subsidiary of Textron, Inc., Rockford, IL: November 5, 2002.

TA-W-53,545; M.J. Soffe Co., a subsidiary of Delta Apparel, Fayetteville, NC: November 14, 2002.

TA-W-53,641; Wentworth Mold, Inc., a subsidiary of Wentworth Technologies Co. Limited, East USA Div., Pawcatuck, CT: November 19, 2002.

TA-W-52,577; Allen-Edmonds Shoe Corp., Milwaukee, WI: August 14,

2002.

TA-W-53,115; Dana Corp., Perfect Circle Harvey Street Foundry Div., Muskegon, MI: April 16, 2002.

TA-W-53,196; Texas Instruments, Inc., Sensors and Controls Div., Attleboro, MA: October 6, 2002.

TA-W-53,234 & A; Kendro Laboratory Products, Machining Div., A subsidiary of SPX Corp., Newtown, CT and Development Engineering Group, a subsidiary of SPX Corp., Newton, CT: September 29, 2002.

TA-W-53,173; Invista, Inc., formerly Dupont Textiles and Interiors, Textile Apparel Div., a subsidiary of E.I. Du Pont De Nemours & Co., Inc., Athens, GA: September 24, 2002.

TA-W-53,620; Creekwood, Inc., Columbia, TN: November 14, 2002.

TA-W-53,651; ITT Industries, Cannon Div., Santa Ana, CA: November 24, 2002.

TA-W-53,569; Irving Tanning Co., Hartland, ME: November 6, 2002.

TA-W-53,446; Hexcel Corp., Kent Facility, Kent, WA: October 31, 2002.

TA-W-53,475; Glenoit Fabrics (HG) Corp., formerly Glenoit Corp., a subsidiary of Hailin USA, Tarboro, NC: October 31, 2002.

TA-W-53,493; Derby Industries, LLC, Galesburg, IL: October 30, 2002.

TA-W-53,206 & A; GE Industrial Systems, Shreveport, LA & Conover, NC: October 9, 2002.

TA-W-53,500; Central Products Co., Intertape Polymer Group, Green Bay, WI: November 9, 2002.

TA-W-53,317; Sofanou, Inc., of Kentucky, Morgantown, KY: October 21, 2002.

TA-W-53,335; Fairchild Semiconductor Corp., Mountaintop, PA: December 1, 2003.

TA-W-53,345; Parkdale America LLC, Plant #22, Landis, NC: October 9, 2002.

TA-W-53,346; Parkdale Mills, Inc., Plant #31, Belmont, NC: October 9, 2002.

TA-W-53,354; TI Automotive, Marysville, MI: October 20, 2002.

TA-W-53,112 & A, B; Stora Enso North America, Stevens Point Paper Mill, Stevens Point, WI, Whiting Paper Mill, Stevens Point, WI and Kimberly Paper Mill, Kimberly, WI: March 13, 2003.

TA-W-53,254; Rutgers Organics Corp., State College, PA: October 7, 2002.

TA-W-53,339; National Manufacturing Co., Sterling, IL: October 15, 2002.

TA-W-53,357; Agrium, Inc., Conda Phosphate Operations, Soda Springs, ID: October 24, 2002.

TA-W-53,362; Parks & Woolson Machine Co., Springfield, VT: October 22, 2002.

TA-W-53,389; Metaldyne Corp., Edon, OH: October 29, 2002.

TA-W-53,468; LF Brands, Inc., New York, NY: November 5, 2002.

TA-W-53,614; Philips Electronics, Advanced Transformer Div., Chicago, IL: November 10, 2002.

TA-W-53,583; Procter and Gamble Paper Products Co., East River Plant, Green Bay, WI: November 11, 2002.

TA-W-53,460; Shelby Elastics of North Carolina, LLC, Mountain City, TN: October 27, 2002.

TA-W-53,413; MTD Southwest, Inc., Chandler, AZ: October 31, 2002.

TA-W-53,513; Amphenol Backplane Systems, Nashua, NH: November 5, 2002.

TA-W-53,502; D'vron Ceramic Studio, Inc., New Castle, PA: October 22, 2002.

TA-W-53,495; Fisher Controls International, LLC, Valve Div., a div. of Emerson Process Management, a div. of Emerson, including leased workers of Manpower, Sherman, TX: November 5, 2002.

TA-W-53,490; Phillips Plastics Corp., Coeur d'Alene Facility and leased workers of Manpower, Post Falls, ID: November 5, 2002.

TA-W-53,694; Metso Minerals Industries, Inc., a div. of Metso Oy, Milwaukee, WI: November 25, 2002.

TA-W-53,655; The John Plant Co., Inc., Ramseur, NC: November 25, 2002.

TA-W-53,688; Elastic Corporation of America, Inc., a div. of Worldtex, Inc., Woolwine, VA: November 24, 2002.

TA-W-53,619; Timken U.S. Corp., Industrial Div., Radial Ball Bearing Manufacturing, Rockford, IL: November 13, 2002.

TA-W-53,618; Day International, Inc., Textile Products Group, Mauldin, SC: November 17, 2002.

TA-W-53,556; Dan River, Inc., Sevierville, TN: November 14, 2002.

TA-W-53,647; Gates Corp., Air Springs Div., including temporary workers of Manpower, Denver, CO: November 24, 2002.

TA-W-53,761; Amhil Enterprises, Inc., Dickson, TN: December 8, 2002.

TA-W-53,615; Teleflex Medical, (formerly known as Genzyme Biosurgery), Cardiothoracic Devices Unit, a div. of Teleflex, Inc., Fall River, MA: November 14, 2002.

TA-W-53,566; Fishman & Tobin, Inc., Samples Div., Conshohocken, PA: November 7, 2002.

TA-W-53,691; A.T. Cross Co., Lincoln, RI: November 25, 2002.

TA-W-53,663; Renfro Corp., Central Supply, Mt. Airy, NC: November 20, 2002.

TA-W-53,712; Dan Post Boot Co., Cowboy Western Boot Div., Waverly, TN: December 1, 2002.

TA-W-53,572; Johnson & Johnson Co., North Brunswick, NJ: November 17, 2002.

TA-W-53,590; Quantum Construction Equipment, d/b/a Noble Construction Equipment, Inc., Lubbock, TX: November 17, 2002.

TA-W-53,764; Traction Motor Transit, Inc., West Mifflin, PA: December 8, 2002.

TA-W-53,749; U.S. Tsubaki, Inc., Power Transmission Components Div., a subsidiary of Tsubakimoto Chain Co., including leased workers of Adecco, Bennington, VT: December 2, 2002.

TA-W-53,660; J.R. Simplot Co., Food Group Div., Caldwell, ID: November 17, 2002.

TA-W-53,697 & A; Raytheon Aircraft Co., Wire Harness Assembly Operations, Wichita, KS and Salina, KS: November 19, 2002.

The following certification has been issued. The requirement of upstream supplier to a trade certified primary firm has been met.

TA-W-53,833; Star Machine Shop, Inc., Galax, VA: December 17, 2002.

TA-W-53,625; Valentine Tool and Stamping, Norton, MA: November 21, 2002.

TA-W-53,426; Neutronics, Inc., Phoenix, AZ: October 27, 2002.

TA-W-53,293; Harriet and Henderson Yarns, Inc., Bladen Plant, Clarkton, NC: October 17, 2002.

TA-W-53,293A; Harriet and Henderson Yarns, Inc., Cedartown Plant, Cedartown, GA: October 22, 2002.

TA-W-53,418; Springfield LLC, Limestone Plant, Gaffney, SC: October 27, 2002.

TA-W-53,006; Central Products, d/b/a Intertape Polymer Group, Brighton, CO: “All workers on the film line producing tape film who became totally or partially separated from employment on or after September 15, 2002.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department has determined that criterion (2) of Section 246 has not been met. Workers at the firm possess skills that are easily transferable.

TA-W-53,527; Van Dorn Demag Corp., a div. of Demag Products Group, Strongsville, OH

Since the workers are denied eligibility to apply for TAA, the workers cannot be certified eligible for ATAA.

TA-W-53,540; Teikoku USA, Inc., div. of Chempump, and lease workers of Accountemps, Neshaminy and Labor Ready, Warrington, PA

TA-W-53,532; Penro Mold and Tool, Inc., Pittsfield, MA

TA-W-53,425; Trane Co., Global Controls and Contracting Div., a subsidiary of American Standard Co., White Bear Lake, MN

TA-W-53,812; Advance Transformer Co., Wartburg, TN

TA-W-53,633; IBM Corp., Technology Group, Marketing Support Team, Essex Junction, VT

TA-W-53,448; Texas Instruments, Tucson Make Facility, Hybrids Manufacturing Div., Tucson, AZ

TA-W-53,696; Stinson, Inc., Pittsburgh, PA

TA-W-53,537; Pacific Rim Log Scaling Bureau, Lacey, WA

TA-W-53,713; Exeter Machine Co., Inc., Lomira, WI

TA-W-53,613; Houston/NANA, a subsidiary of Houston Contracting Co., a wholly owned subsidiary of ASRC Energy Services, Inc., a wholly owned subsidiary of Arctic Slope Regional Corp., Fairbanks, AK

TA-W-53,709; Alfmeier Corp., Seating Comfort Systems, a subsidiary of Alfmeirer Prazision, Dandridge, TN

TA-W-53,498; Anadarko Petroleum, Corp. Headquarters, The Woodlands, TX, Midland Div. Office, Midland, TX and Amarillo Div. Office, Amarillo, TX

TA-W-53,429; R. Leon Williams Lumber Co., Clifton, ME

TA-W-53,169; Dresser, Inc., Dresser Piping Specialties Div., Bradford, PA

TA-W-53,687; Olympic Wood Products, Inc., Shelton, WA

TA-W-53,624; General Electric Co., Consumer Products Div., Logan, OH

TA-W-53,411; Cognati Industries, Inc., Bluffton, IN

TA-W-53,326; Weyerhaeuser Co., including leased workers of Manpower, Inc., West Memphis, AR

TA-W-53,478; Edgcomb Metals LLC, a subsidiary of Macsteel Service Centers USA, Indianapolis, IN

TA-W-53,430; EMK Corp., EMK Div., Burkesville, KY

TA-W-53,416; Wolverine Pattern and Machine, Inc., Saginaw, MI

TA-W-53,334; Eugene Aluminum and Brass Foundry, Inc., Eugene, OR

TA-W-53,531; Gen Corp., Inc., GDX Automotive Div., Salisbury, NC

TA-W-53,359; Keystone Powdered Metal Co., St. Marys, PA

TA-W-53,234B; Kendro Laboratory Products, Centrifuge Production, a subsidiary of SPX Corporation, Newtown, CT

TA-W-53,115A; Dana Corp., Perfect Circle Jefferson Street Div., Muskegon, MI

TA-W-53,173A; Invista, Inc., formerly Dupont Textiles and Interiors, Commercial Flooring Div., a subsidiary of E.I. Du Pont De Nemours & Co., Inc., Athens, GA

TA-W-53,196A; Texas Instruments, Inc., Make-Leadframe Div., Attleboro, MA

TA-W-52,577A; Allen-Edmonds Shoe Corp., Port Washington, WI

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-53,772; Werner Co., Kentucky Div., including temporary workers of CBS Temporary Services, Carrollton, KY: December 9, 2002.

TA-W-53,544; Levi Strauss & Co., San Antonio Finishing and Sewing Center Div., San Antonio, TX: November 14, 2002.

TA-W-53,568; EJE Research, a div. of Airsep Corp., Buffalo, NY: November 3, 2002.

TA-W-53,561; Lucerne Technologies, LLC, Bolivar, TN: October 31, 2002.

TA-W-53,539; E.L. Mansure Co., a div. of CHF Industries, Inc., Clinton, SC: November 11, 2002.

TA-W-53,610; Besly Products Corp., South Beloit, IL: November 17, 2002.

TA-W-53,596; Jeld-Wen, Inc., Susanville, CA: November 10, 2002.

TA-W-53,543; Charmilles Technologies Manufacturing Corp., Owosso, MI: November 5, 2002.

TA-W-53,534; International Paper, Augusta, ME: October 29, 2002.

TA-W-53,479; Fabricating Engineering, Inc., Davisburg, MI: November 5, 2002.

TA-W-53,450; CHC Industries, Inc., Jacksonville, FL, A; Palm Harbor, FL, B; Cameron, MO, C; Cleveland, OH, D; Valley City, OH, E; Baltimore, MD, F; Brenham, TX and G; Gadsden, AL: November 3, 2002.

TA-W-53,452; Cadillac Curtain Corp., Covington, TN: October 27, 2002.

TA-W-53,598; Hercules, Inc., Hattiesburg, MS: November 11, 2002.

TA-W-53,643; Stod-Win Co., Inc., Danville, VA: November 17, 2002.

TA-W-53,623; Fashion Sportswear Corp., Fall River, MA: November 19, 2002.

TA-W-53,622; JVC Magnetics America Co., Tuscaloosa, AL: November 20, 2002.

TA-W-53,550; Wohlert Corp., Lansing, MI: November 7, 2002.

TA-W-53,547; Hartz—Broadway, Inc., a div. of Hartz & Company, Inc., Broadway, VA: November 11, 2002.

TA-W-53,602; GST Autoleather, Inc., Reading, PA: November 20, 2002.

TA-W-53,505; Hunt Corp., Speedball Road Plant, Statesville, NC: November 7, 2002.

TA-W-53,390; Jore Corp., including leased workers of LC Staffing and Express Personnel, Ronan, MT: October 25, 2002.

TA-W-53,414; Dupont Photomasks, Inc., Pellicles Div., Danbury, CT: October 31, 2002.

TA-W-53,435; Manar, Inc., Henry Div., Henry, TN: October 24, 2002.

TA-W-53,436; Sanmina—SCI, including leased workers of Manpower and Bonney Staffing, Westbrook, ME: October 27, 2002.

TA-W-53,698; Holloway Sportswear, Inc., Simmesport, LA: November 25, 2002.

TA-W-53,272; Thombas Co., LLC, d/b/a Capitol Manufacturing, including leased workers of Express Personnel, Fayetteville, NC: May 15, 2003.

TA-W-53,387; Perfect Products Co., Malvern, OH: October 14, 2002.

TA-W-53,397; DSM Pharma Chemicals, a div. of DSM Pharmaceuticals, Inc., including leased workers of Manpower Temporary Agency, Greenville, NC: October 17, 2002.

TA-W-53,533; International Paper, Bucksport, ME: November 5, 2002.

TA-W-53,535; International Paper, Auburn, ME: October 29, 2002.

TA-W-53,433; International Resistive Co., Inc., a subsidiary of TT Electronics, PLC, Boone, NC: October 28, 2002.

TA-W-53,494; Avery Dennison, Chicopee Plant Paper Business subdivision, including leased workers of Adecco, Chicopee, MA: November 7, 2002.

TA-W-53,302; Kiker Hosiery, Locust, NC: October 15, 2002.

TA-W-53,574; Springs Industries, Inc., Leroy Plant, including leased workers of Phillips Staffing, Fort Lawn, SC: November 13, 2002.

TA-W-53,492; Falcon Shoe Manufacturing Co., Lewiston, ME: June 9, 2003.

TA-W-53,440; Nestronix, Quackertown, PA: September 14, 2003.

TA-W-53,439; AM Communications, Inc., Quackertown, PA: September 14, 2003.

TA-W-53,278 & A; Sherwood Harsco Corp., Fluid Control Group, Lockport, NY and Niagara Falls, NY: October 3, 2002.

TA-W-53,268; J.S. Popper, Inc., Little Ferry, NJ: October 16, 2002.

TA-W-53,324 & A; New River Industries, Inc., Radford, VA and New York, NY: October 15, 2002.

TA-W-53,442; Planto Furniture Manufacturing Co., Inc., San Antonio, TX: November 4, 2002.

TA-W-53,377; Brintons, Ltd, Brintons U.S. Axminster, Inc., including leased workers of Greenville Temps, Manpower, Inc. and PSC Staffing, Greenville, MS: October 24, 2002.

TA-W-53,554; Waltrich Plastic Corp. of Massachusetts, Clinton, MA: November 3, 2002.

TA-W-53,541; Gentry Mills, Inc., a subsidiary of Gentry Knitting, Ltd, Wadesboro, NC: November 10, 2002.

TA-W-53,651; ITT Industries, Cannon Div., Santa Ana, CA: November 24, 2002.

TA-W-53,569; Irving Tanning Co., Hartland, ME: November 6, 2002.

TA-W-53,446; Hexcel Corp., Kent Facility, Kent, WA: October 31, 2002.

TA-W-53,475; Glenoit Fabrics (HG) Corp., formerly Glenoit Corp., a subsidiary of Hailin USA, Tarboro, NC: October 31, 2002.

TA-W-53,493; Derby Industries, LLC, Galesburg, IL: October 30, 2002.

TA-W-52,577; Allen-Edmonds Shoe Corp., Milwaukee, WI: August 14, 2002.

TA-W-53,115; Dana Corp., Perfect Circle Harvey Street Foundry Div., Muskegon, MI: April 16, 2002.

TA-W-53,173; Invista, Inc., formerly Dupont Textiles and Interiors, Textile Apparel Div., a subsidiary of E.I. Du Pont De Nemours & Co., Inc., Athens, GA: September 24, 2002.

TA-W-53,196; Texas Instruments, Inc., Sensors and Controls Div., Attleboro, MA: October 6, 2002.

TA-W-53,234 & A; Kendro Laboratory Products, Machining Div., a subsidiary of SPX Corp., Newtown, CT and Development Engineering Group, a subsidiary of SPX Corp., Newtown, CT: September 29, 2002.

TA-W-53,620; Creekwood, Inc., Columbia, TN: November 14, 2002.

TA-W-53,206 & A GE Industrial Systems Shreveport, LA and Conover, NC: October 9, 2002.

TA-W-53,500; Central Products Co., Intertape Polymer Group, Green Bay, WI: November 9, 2002.

TA-W-53,317; Sofanou, Inc. of Kentucky, Morgantown, KY: October 21, 2002.

TA-W-53,335; Fairchild Semiconductor Corp., Mountaintop, PA: December 1, 2003.

TA-W-53,345; Parkdale America LLC, Plant #22, Landis, NC: October 9, 2002.

TA-W-53,346; Parkdale Mills, Inc., Plant #31, Belmont, NC: October 9, 2002.

TA-W-53,354; TI Automotive, Marysville, MI: October 20, 2002.

TA-W-53,112, A & B; Stora Enso North America, Stevens Point Paper Mill, Stevens Point, WI, Whiting Paper Mill, Stevens Point, WI and Kimberly Paper Mill, Kimberly, WI: March 13, 2003.

TA-W-53,254; Rutgers Organics Corp., State College, PA: October 7, 2002.

TA-W-53,339; National Manufacturing Co., Sterling, IL: October 15, 2002.

TA-W-53,362; Parks and Woolson Machine Co., Springfield, VT: October 22, 2002.

TA-W-053,389; Metalydyne Corp., Edon, OH: October 29, 2002.

TA-W-53,468; LF Brands, Inc., New York, NY: November 5, 2002.

TA-W-53,614; Philips Electronics, Advanced Transformer Div., Chicago, IL: November 10, 2002.

TA-W-53,383; Proctor and Gamble Paper Products Co., East River Plant, Green Bay, WI: November 11, 2002.

TA-W-53,460; Shelby Elastics of North Carolina, LLC, Mountain City, TN: October 27, 2002.

TA-W-53,413; MTD Southwest, Inc., Chandler, AZ: October 31, 2002.

TA-W-53,513; Amphenol Backplane Systems, Nashua, NH: November 5, 2002.

TA-W-53,502; D'vron Ceramic Studio, Inc., New Castle, PA: October 22, 2002.

TA-W-53,495; Fisher Controls International, LLC, Valve Div., a div. of Emerson Process Management, a div. of Emerson, including leased workers of Manpower, Sherman, TX: November 5, 2002.

TA-W-53,490; Phillips Plastics Corp., Coeur d'Alene Facility, and leased workers of Manpower, Post Falls, ID: November 5, 2002.

TA-W-53,694; Metso Minerals Industries, Inc., a div. of Metso Oy, Milwaukee, WI: November 25, 2002.

TA-W-53,655; The John Plant Co., Inc., Ramseur, NC: November 25, 2002.

TA-W-53,688; Elastic Corp. of America, Inc., a div. of Worldtex, Inc., Woolwine, VA: November 24, 2002.

TA-W-53,619; Timken U.S. Corp., Industrial Div., Radial Ball Bearing Manufacturing, Rockford, IL: November 13, 2002.

TA-W-53,618; Day International, Inc., Textile Products Group, Maulkin, SC: November 17, 2002.

TA-W-53,556; Dan River, Inc., Sevierville, TN: November 14, 2002.

TA-W-53,647; Gates Corp., Air Springs Div., Including Temporary Workers of Manpower, Denver, CO: November 24, 2002.

TA-W-53,761; Amhil Enterprises, Inc., Dickson, TN: December 8, 2002.

TA-W-53,615; Teleflex Medical, (formerly known as Genzyme Biosurgery), Cardiothoracic Devices Unit, a div. of Teleflex, Inc., Fall River, MA: November 14, 2002.

TA-W-53,566; Fishman and Tobin, Inc., Samples Div., Conshohocken, PA: November 7, 2002.

TA-W-53,691; A.T. Cross Co., Lincoln, RI: November 25, 2002.

TA-W-53,663; Renfro Corp., Central Supply, Mt. Airy, NC: November 20, 2002.

TA-W-53,712; Dan Post Boot Co., Cowboy Western Boot Div., Waverly, TN: December 1, 2002.

TA-W-53,572; Johnson & Johnson Co., North Brunswick, NJ: November 17, 2002.

TA-W-53,590; Quantum Construction Equipment d/b/a Noble Construction Equipment, Inc., Lubbock, TX: November 17, 2002.

TA-W-53,749; U.S. Tsubaki, Inc., Power Transmission Components Div., a subsidiary of Tsubakimoto Chain Co., including leased workers of Adecco, Bennington, VT: December 2, 2002.

TA-W-53,660; J.R. Simplot Co., Food Group Div., Caldwell, ID: November 17, 2002.

TA-W-53,697; Raytheon Aircraft Co., Wire Harness Assembly Operations, Wichita, KS and Salina, KS: November 19, 2002.

TA-W-53,764; Traction Motor Transit, Inc., West Mifflin, PA: December 8, 2002.

TA-W-53,418; Springfield LLC, Limestone Plant, Gaffney, SC: October 27, 2002.

TA-W-53,293; Harriet and Henderson Yarns, Inc., Bladen Plant, Clarkton, NC and Cedartown Plant, Cedartown, GA: October 22, 2002.

TA-W-53,426; Neutronics, Inc., Phoenix, AZ: October 27, 2002.

TA-W-53,625; Valentine Tool and Stamping, Norton, MA: November 21, 2002.

TA-W-53,833; Star Machine Shop, Inc., Galax, VA: December 17, 2002.

I hereby certify that the aforementioned determinations were issued during the months of December. Copies of these determinations are available for inspection in Room C-5311, U.S. Department of Labor, 200 Constitution Avenue, NW., Washington, DC 20210 during normal business hours or will be mailed to persons who write to the above address.

Dated: November 9, 2003.
Timothy Sullivan,
Director, Division of Trade Adjustment Assistance.

[FR Doc. 04-991 Filed 1-15-04; 8:45 am]

BILLING CODE 4310-30-P